DEPARTMENT OF JUSTICE

Notice of Lodging of Consent Decree Under the Clean Air Act

Notice is hereby given that on December 20, 2011, a proposed Consent Decree (“Consent Decree”) in United States v. Dover Chemical Corporation, Civil Action No. 5:11-cv-02754-BYP, was lodged with the United States District Court for the Northern District of Ohio.

In this action, the United States sought injunctive relief and penalties from Dover Chemical Corporation (“Dover”) for alleged violations of Sections 111 and 112 of the Clean Air Act (“CAA”), 42 U.S.C. 7411 and 7412; Title V of the CAA, 42 U.S.C. 7661 et seq.; and Title VI of the CAA, 42 U.S.C. 7671 et seq., at Dover's chemical manufacturing facility in Dover, Ohio. Under the Consent Decree, Dover will implement enhanced leak detection and repair practices more stringent than the minimum required by the regulations; accept and comply with the Hazardous and Miscellaneous Organic NESHAP at various process units; accept “major source” status under the CAA and apply for a Title V permit; and pay a civil penalty of $620,000.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Dover Chemical Corporation, No. 5:11-cv-02754-BYP (N.D. Ohio) D.J. Ref. No. 90-5-2-1-09309.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or emailing a request to Tonia Fleetwood (tonia.fleetwood@usdoj.gov), fax number (202) 514-0097, phone confirmation number (202) 514-1547. If requesting a copy from the Consent Decree Library by mail, please enclose a check in the amount of $10.50 (25 cents per page reproduction cost) payable to the U.S. Treasury, or, if requesting by email or fax, forward a check in that amount to the Consent Decree Library at the address given above.

Maureen M. Katz,
Assistant Chief, Environmental Enforcement Section, Environment and Natural Resources Division.

[FR Doc. 2011-33072 Filed 12-23-11; 8:45 am]

BILLING CODE 4410-15-P